DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one person currently included OFAC's Specially Designated Nationals and Blocked Persons List (SDN List).

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On February 1, 2023, OFAC updated the entry on the SDN List for the following person, whose property and interests in property subject to U.S. jurisdiction continue to be blocked under the relevant sanctions authority listed below.

Individual

1. RIVERA ZAZUETA, Jose Angel (a.k.a. RIVERA SALAS, Miguel Angel), Mexico; DOB 15 Aug 1987; POB Sinaloa, Mexico; nationality Mexico; citizen Mexico; Gender Male; C.U.R.P. RIZA870815HSLVZN00 (Mexico) (individual) [ILLICIT-DRUGS-EO14059].

-to-

RIVERA ZAZUETA, Jose Angel (a.k.a. RIVERA SALAS, Miguel Angel), Mexico; DOB 15 Aug 1987; alt. DOB 15 Dec 1987; POB Sinaloa, Mexico; nationality Mexico; citizen Mexico; Gender Male; C.U.R.P. RIZA870815HSLVZN00 (Mexico); alt. C.U.R.P. RISM871215HMCVLG00 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) for having engaged in, or attempted to engage in, activities or transactions that have materially contributed to, or pose a significant risk of materially contributing to, the international proliferation of illicit drugs or their means of production.

Dated: February 2, 2023.
Andrea M. Gacki,
Director, Office of Foreign Assets Control, U.S. Department of the Treasury.

[FR Doc. 2023-02623 Filed 2-7-23; 8:45 am]

BILLING CODE 4810-AL-P